DEPARTMENT OF EDUCATION

Privacy Act of 1974; Computer Matching Program; Notice

AGENCY: Department of Education.

ACTION: Notice—Computer matching between the Department of Education and the Internal Revenue Service, Department of Treasury.

SUMMARY: Pursuant to the Computer Matching and Privacy Protection Act of 1988, Pub. L. 100-503, and the Office of Management and Budget (OMB) Guidelines on the Conduct of Matching Programs, notice is hereby given of the computer matching program between the Department of Education (ED) (the recipient agency), and the Internal Revenue Service (IRS), Department of Treasury (the source agency).

Notice of the matching program was originally published in the Federal Register on April 12, 1974 (58 FR 31587); the program became effective January 14, 1998. Duration was 18 months plus a one-year extension permitted by the Privacy Act of 1974, as amended by the Computer Matching and Privacy Protection Act of 1988 (5 U.S.C. 552a(o)(2)(D)). The one-year extension expired July 14, 2000. This document notifies the public of the approval of a new agreement between the Department of Treasury and Department of Education to continue the matching program. The Data Integrity Boards will continue the matching program.

In accordance with the Privacy Act of 1974 (5 U.S.C. 552a), as amended, and OMB guidance on the computer matching provision of the Privacy Act, we provide the following information:

1. Name of Participating Agencies

The U.S. Department of Education (ED) and the Internal Revenue Service (IRS) of the U.S. Department of Treasury.

2. Purpose of the Match

This matching program, entitled Taxpayer Address Request (TAR), permits ED to have access to any taxpayer's mailing address who has defaulted on certain loans extended under the Higher Education Act for the purposes of locating the taxpayer to collect the loan. This agreement further provides for redisclosure by the Secretary of Education of a taxpayer's mailing address to any lender, or State or nonprofit guarantee agency, also participating under the Higher Education Act, or any educational institution with which the Secretary of Education has an agreement under that Act.

3. Authority for Conducting the Matching Program

The information contained in the IRS data base is referred to as TAR, and is authorized under the Internal Revenue Code (IRC) sections 6103 (m)(4) and (m)(5), Pub. L. 99-603.

4. Categories of Records and Individuals Covered

The records to be used in the match and the roles of the matching participants are described as follows:

ED will provide the Social Security Number (SSN) and first four letters of the last name of each student who has defaulted under a loan program authorized under Title IV of the Higher Education Act of 1965. This information will be extracted from the Student Financial Assistance Collection System of records (18-11-07). The ED data will be matched against the IRS' system of records to collect most the recent address of each taxpayer who matches the SSN and first four letters of the last provided by ED.

5. Effective Dates of the Matching Program

The matching program will become effective 40 days after a copy of the agreement, as approved by the Data Integrity Board of each agency, is sent to Congress and the Office of Management and Budget, or 30 days after publication of this notice in the Federal Register, unless OMB disapproves the Matching Program within the 40-day review period. If OMB takes no action within 40 days, this Matching Program becomes effective after both the 40-day OMB period and the 30-day period have passed. The matching program will continue for 18 months after the effective date and may be extended for an additional 12 months, if the conditions specified in 5 U.S.C. 552a(o)(2)(D) have been met.

6. Address for Receipt of Public Comments or Inquiries

The person to contact if there are any questions or inquiries is: Cynthia DB Mills, Management Analyst, Federal Family Student Loan Systems Division, Student Financial Assistance, Development Division, U.S. Department of Education, 400 Maryland Avenue, SW, (Room 4613, ROB-3), Washington, DC 20202, Telephone: 202-708-9768. If you use a telecommunications device for the deaf (TTD) you may call the Federal Information Relay Service (FIRS) at 1-800-877-8339. Individuals with disabilities may obtain this document in an alternative format (e.g., Braille, large print, audiotape, or computer diskette) on request to the contact person listed in the preceding paragraph.

Electronic Access to This Document

Anyone may view this document, as well as all other Department of Education documents published in the Federal Register, in text or portable document format (PDF) on the World Wide Web at either of the following sites:

http://ocfo.ed.gov/fedreg.htm

http://www.ed.gov/news.html

To use PDF you must have Adobe Acrobat Reader, which is available free at either of the previous sites. If you have questions about using PDF, call the U.S. Government Printing Office toll free at 1-888-293-6498.

Note: The official version of this document is the document published in the Federal Register. Free Internet access to the official edition of the Federal Register and the Code of Federal Regulations is available on GPO Access at: http://www.access.gpo.gov/nara/index.html

Dated: August 18, 2000.
Greg Woods,
Chief Operating Officer, Student Financial Assistance.

[FR Doc. 00-21477 Filed 8-22-00; 8:45 am]

BILLING CODE 4000-01-P